JUDICIAL CONFERENCE OF THE UNITED STATES

Hearings of the Judicial Conference Advisory Committees on Rules of Bankruptcy and Criminal Procedure, and the Rule of Evidence

AGENCY: Judicial Conference of the United States, Advisory Committees on Rules of Bankruptcy and Criminal Procedure, and the Rules of Evidence.

ACTION: Notice of Proposed Amendments and Open Hearings.

SUMMARY: The Advisory Committees on Rules of Bankruptcy and Criminal Procedure, and the Rules of Evidence have proposed amendments to the following rules:

Bankruptcy Rules: 1005, 1006, 1007, 1009, 1010, 1011, 1015, 1017, 1019, 1020, 2002, 2003, 2007.1, 2015, 3002, 3003, 3016, 3017.1, 3019, 4002, 4003, 4004, 4006, 4007, 4008, 5001, 5003, 6004, 8001, 8003, 9006, and 9009, and New Rules 1021, 2007.2, 2015.1, 2015.2, 2015.3, 5008, 5012, and 6011, and Official Forms 1, 3A, 3B, 4, 5, 6, 7, 8, 9, 10, 16A, 18, 19A, 19B, 21, 22A, 22B, 22C, 23, 24, and new Official Forms 25A, 25B, 25C, 26, and Exhibit D to Form 1.

Criminal Rules: 1, 12.1, 17, 18, 29, 32, 41, and new Rules 60 and 61.

Evidence Rule: 502.

The text of the proposed rules amendments and the accompanying Committee Notes can be found at the United States Federal Courts' Home Page at http://www.uscourts.gov/rules.

The Judicial Conference Committee on Rules of Practice and Procedure submits these proposed Rules amendments for public comment. All comments and suggestions with respect to them must be placed in the hands of the Secretary as soon as convenient and, in any event, not later than February 15, 2007. All written comments on the proposed rule amendments can be sent by one of the following three ways: by overnight mail to Peter G. McCabe, Secretary, Committee on Rules of Practice and Procedure of the Judicial Conference of the United States, Thurgood Marshall Federal Judiciary Building, Washington, DC 20544; by electronic mail at http://www.uscourts.gov/rules; or by facsimile to Peter G. McCabe at (202) 502-1766. In accordance with established procedures all comments submitted on the proposed amendments are available to public inspection.

Public hearings are schedule to be held on the amendments to:

• Bankruptcy Rules in Washington, DC, on January 22, 2007;

• Criminal Rules in Washington, DC, on January 26, 2007; and in San Francisco, California, on February 2, 2007; and

• Evidence Rules in Phoenix, AZ, on January 12, 2007; and in New York, New York on January 29, 2007.

Those wishing to testify should contact the Committee Secretary at the above address in writing at least 30 days before the hearing.

FOR FURTHER INFORMATION CONTACT: John K. Rabiej, Chief, Rules Committee Support Office, Administrative Office of the United States Courts, Washington, DC 20544, telephone (202) 502-1820.

Dated: September 22, 2006.
John K. Rabiej,
Chief, Rules Committee Support Office.

[FR Doc. 06-8381 Filed 9-29-06; 8:45 am]

BILLING CODE 2210-55-M